Proclamation 7752 of January 15, 2004

National Sanctity of Human Life Day, 2004

By the President of the United States of America

A Proclamation

As Americans, we are led by the power of our conscience and the history of our country to defend and promote the dignity and rights of all people. Each person, however frail or defenseless, has a place and a purpose in this world. On National Sanctity of Human Life Day, we celebrate the gift of life and our commitment to building a society of compassion and humanity.

Today, the principles of human dignity enshrined in the Declaration of Independence—that all persons are created equal and possess the unalienable rights to life, liberty, and the pursuit of happiness—continue to guide us. In November, I signed into law the Partial-Birth Abortion Ban Act of 2003, reaffirming our commitment to protecting innocent life and to a basic standard of humanity—the duty of the strong to defend the weak. My Administration encourages adoption and supports abstinence education, crisis pregnancy programs, parental notification laws, and other measures to help us continue to build a culture of life. By working together, we will provide hope to the weakest among us and achieve a more compassionate and merciful world.

NOW, THEREFORE, I, GEORGE W. BUSH, President of the United States of America, by virtue of the authority vested in me by the Constitution and laws of the United States, do hereby proclaim Sunday, January 18, 2004, as National Sanctity of Human Life Day. I call upon all Americans to recognize this day with appropriate ceremonies in our homes and places of worship and to reaffirm our commitment to respecting the life and dignity of every human being.

IN WITNESS WHEREOF, I have hereunto set my hand this fifteenth day of January, in the year of our Lord two thousand four, and of the Independence of the United States of America the two hundred and twenty-eighth.

B

[FR Doc. 04-1321

Filed 1-16-04; 11:38 am]

Billing code 3195-01-P